DEPARTMENT OF JUSTICE

Federal Bureau of Prisons

Notice of Intent To Prepare a Supplemental Revised Final Environmental Impact Statement for the Proposed United States Penitentiary and Federal Prison Camp in Letcher County, Kentucky

AGENCY: Federal Bureau of Prisons, U.S. Department of Justice.

ACTION: Notice of Intent.

SUMMARY: Pursuant to the National Environmental Policy Act (NEPA) of 1969, as implemented by the Council on Environmental Quality regulations, the Federal Bureau of Prisons (Bureau) announces its intent to prepare a Supplement to the March 2016 Revised Final Environmental Impact Statement (RFEIS) for “Proposed United States Penitentiary and Federal Prison Camp Letcher County, Kentucky.”

FOR FURTHER INFORMATION CONTACT: Issac Gaston, Site Selection Specialist; U.S. Department of Justice, Federal Bureau of Prisons, 320 First Street NW., Washington, DC 20534; email: igaston@bop.gov.

SUPPLEMENTARY INFORMATION: The Supplemental RFEIS is being prepared to address substantial changes to the proposed action that are relevant to environmental concerns, as required under NEPA [40 CFR 1502.9(c)], and will assess any new circumstances or information relevant to potential environmental impacts.

In March 2016, the Bureau completed the Revised Final EIS for the Proposed United States Penitentiary and Federal Prison Camp, Letcher County, Kentucky, which evaluated the potential environmental impacts from the acquisition of property and construction and operation of a new United States Penitentiary, Federal Prison Camp, ancillary facilities, and access roads in Letcher County. The RFEIS analyzed two potential locations: An approximately 753-acre site in eastern Letcher County (Alternative 1-Payne Gap), and an approximately 700-acre site in western Letcher County (Alternative 2-Roxana). The RFEIS identified Alternative 2-Roxana as the preferred alternative because it best meets the project needs and, on balance, would have fewer impacts to the natural and built environment.

The Bureau was originally considering acquiring approximately 700 acres at the Roxana site for this project. In an effort to reduce potentially impacted property, the Bureau is removing two parcels of land at the Roxana site from acquisition consideration, resulting in a proposed site of approximately 570 acres. This reduction in site size has necessitated modifying the facilities layout evaluated for Alternative 2-Roxana in the RFEIS. The environmental impacts of the modified Alternative 2-Roxana will be analyzed in the Supplemental RFEIS. The alternatives to be evaluated in the Supplemental RFEIS include the No Action Alternative and Alternative 2-Roxana.

The Supplemental RFEIS will analyze potential environmental impacts that may result from the modified alternative, including, but not limited to, land use and zoning; topography, geology, and soils; air quality; noise; cultural resources; water resources; and biological resources. The Supplemental RFEIS analysis will evaluate direct, indirect, and cumulative impacts. Relevant and reasonable measures that could avoid or mitigate environmental impacts will also be analyzed. Additionally, the Bureau will undertake any consultations required by applicable laws or regulations.

The Bureau will issue a Draft Supplemental RFEIS for a 45-day public comment period, during which a public meeting will be held in the community of Whitesburg. A notice of availability of the Draft Supplemental RFEIS and a notice of public meeting will be published in the Federal Register and in area newspapers in advance of the release of the Draft Supplemental RFEIS and the public meeting. Those notices will identify further details about the public meeting and the specific opportunities and methods for the public to provide comments on the Draft Supplemental RFEIS.

The mailing list for the Draft Supplemental RFEIS will be based on the mailing list in the 2016 RFEIS. Those on this list will receive a copy of the Draft Supplemental RFEIS. This list includes local, state, and federal agencies with jurisdiction, elected officials and community leaders, businesses and organizations, and other interested parties and individuals. Anyone wishing to be added to the mailing list to receive a copy of the Draft Supplemental RFEIS may request to be added by contacting the Bureau's Site Selection Specialist at the address below.

Following issuance of the Draft Supplemental RFEIS and completion of the 45-day public comment period on the Draft Supplemental RFEIS, the Bureau will issue a Final Supplemental RFEIS that will include comments received during the public comment period on the Draft Supplemental RFEIS. The Final Supplemental RFEIS will also include the Bureau's response to substantive comments received on the Draft Supplemental RFEIS. Following publication of the Final Supplemental RFEIS, a 30-day review period will be provided. No action will be taken to implement any of the proposed alternatives until completion of the 30-day review period on the Final Supplemental RFEIS and issuance of a Record of Decision on behalf of the Bureau by its Director or Acting Director.

Dated: November 4, 2016.
Issac Gaston,
Site Selection Specialist, Capacity, Planning and Construction, U.S. Department of Justice, Federal Bureau of Prisons.

[FR Doc. 2016-27148 Filed 11-17-16; 8:45 am]

BILLING CODE P